OFFICE OF THE UNITED STATES TRADE REPRESENTATIVE

Generalized System of Preferences (GSP): Notice of Status of Certain Pending Country Practice Petitions; Notice of Schedule for Public Comments and a Hearing on Certain Country Practice Reviews

AGENCY: Office of the United States Trade Representative.

ACTION: Notice and request for submissions.

SUMMARY: This notice announces (1) the status of pending country practice petitions submitted as part of previous GSP Annual Reviews, and (2) the schedule for public comments and a public hearing on the ongoing GSP country practice reviews regarding worker rights and/or child labor in Bangladesh, Georgia, Niger, the Philippines, and Uzbekistan, and protection of intellectual property rights (IPR) in Russia and Uzbekistan.

FOR FURTHER INFORMATION CONTACT: Tameka Cooper, GSP Program, Office of the United States Trade Representative, 600 17th Street NW., Room 422, Washington, DC 20508. The telephone number is (202) 395-6971, the fax number is (202) 395-9674, and the email address is Tameka_Cooper@ustr.eop.gov.

DATES: The GSP regulations (15 CFR Part 2007) provide the schedule of dates for conducting an annual review unless otherwise specified in a Federal Register notice. The schedule for the review of the country practice petitions cited above follows.

March 14, 2013: Deadline for submission of pre-hearing briefs and requests to appear at the March 28, 2013 public hearing; submissions must be received by 5:00 p.m.

March 28, 2013: The GSP Subcommittee of the Trade Policy Staff Committee (TPSC) will convene a public hearing on the country practice petitions cited above at 1724 F Street NW., Washington, DC 20508, beginning at 9:30 a.m.

April 18, 2013: Deadline for submission of post-hearing briefs, which must be received by 5:00 p.m.

SUPPLEMENTARY INFORMATION: The GSP program provides for the duty-free treatment of designated articles when imported from beneficiary developing countries. The GSP program is authorized by Title V of the Trade Act of 1974 (19 U.S.C. 2461, et seq.), as amended.

Country Practice Petitions

The status of country practice petitions considered in the 2012 GSP Annual Review is described in the list of Active and Pending Country Practices Reviews, which is available on the USTR GSP Web site at http://www.ustr.gov/trade-topics/trade-development/preference-programs/generalized-system-preference-gsp/gsp-program-inf. This list includes petitions accepted as part of annual reviews from previous years.

The U.S. Trade Representative (USTR), drawing on the advice of the TPSC, has deferred a decision on acceptance of a country practice petition on Russia regarding expropriation. In addition, the USTR, drawing on the advice of the TPSC, has decided to close the country practice review of case 007-CP-08 regarding IPR protection in Lebanon in view of (1) progress made by the government of Lebanon in addressing IPR issues in that country and (2) a request by the petitioner, the International Intellectual Property Alliance, that the petition be withdrawn in view of progress in addressing the issues cited in the petition.

Notice of Public Hearing

A hearing will be held by the GSP Subcommittee of the TPSC on Thursday, March 28, 2013, beginning at 9:30 a.m., to receive information regarding recent developments pertinent to the ongoing country practice reviews regarding worker rights and/or child labor in Bangladesh, Georgia, Niger, the Philippines, and Uzbekistan, and protection of intellectual property rights (IPR) in Russia and Uzbekistan.

The hearing will be held at 1724 F Street NW., Washington, DC 20508 and will be open to the public. A transcript of the hearing will be made available on http://www.regulations.gov within approximately two weeks of the hearing.

All interested parties wishing to make an oral presentation at the hearing must submit, following the “Requirements for Submissions” set out below, the name, address, telephone number, and email address, if available, of the witness(es) representing their organization by 5 p.m., March 14, 2013. Requests to present oral testimony must be accompanied by a written brief or summary statement, in English, and also must be received by 5 p.m., March 14, 2013. Oral testimony before the GSP Subcommittee will be limited to five-minute presentations that summarize or supplement information contained in briefs or statements submitted for the record. Post-hearing briefs or statements will be accepted if they conform with the regulations cited below and are submitted, in English, by 5 p.m., April 18, 2013. Parties not wishing to appear at the public hearing may submit pre-hearing and post-hearing briefs or comments by the aforementioned deadlines.

The GSP Subcommittee strongly encourages submission of all post-hearing briefs or statements by the April 18, 2013 deadline in order to receive timely consideration in the GSP Subcommittee's review of the subject petitions. However, if there are new developments or information that parties wish to share with the GSP Subcommittee after this date, the regulations.gov dockets will remain open. Comments, letters, or other submissions related to the subject country practice reviews must be posted to the http://regulations.gov docket in order to be considered by the GSP Subcommittee.

Requirements for Submissions

All submissions in response to this notice must be submitted in English by the applicable deadlines set forth in this notice and conform to the GSP regulations set forth at 15 CFR part 2007, except as modified below. These regulations are available on the USTR Web site at http://www.ustr.gov/trade-topics/trade-development/preference-programs/generalized-system-preference-gsp/gsp-program-inf.

To ensure their timely and expeditious receipt and consideration, submissions in response to this notice must be submitted electronically via http://www.regulations.gov using the appropriate country-specific docket number(s) listed below.

Bangladesh (worker rights): USTR-2012-0036;

Georgia (worker rights): USTR-2013-0009;

Niger (worker rights): USTR-2013-0005;

Philippines (worker rights): USTR-2013-0006;

Uzbekistan (worker rights): USTR-2013-0007;

Russia (IPR): USTR-2013-0008; and

Uzbekistan (IPR): USTR-2013-0014.

Hand-delivered submissions will not be accepted.

To make a submission using http://www.regulations.gov, enter the country-specific docket number in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The GSP Subcommittee prefers that submissions be provided in an attached document. At the beginning of the submission, or on the first page (if an attachment), please note that the submission is in response to this Federal Register notice and provides comments on the GSP country practice review regarding [relevant country]. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If an interested party is unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR 2003.6, will be available for public viewing pursuant to 15 CFR 2007.6 at http://www.regulations.gov upon completion of processing, usually within two weeks of the relevant due date or date of the submission. Such submissions may be viewed by entering the country-specific docket number in the search field at: http://www.regulations.gov.

William D. Jackson,
Deputy Assistant U.S. Trade Representative for the Generalized System of Preferences, Office of the U.S. Trade Representative.

[FR Doc. 2013-04039 Filed 2-21-13; 8:45 am]

BILLING CODE 3290-F3-P